DEPARTMENT OF DEFENSE

Office of the Secretary

[Docket ID DoD-2012-OS-0031]

Privacy Act of 1974; System of Records

AGENCY: National Security Agency/Central Security Service, DoD.

ACTION: Notice to add a new system of records.

SUMMARY: The National Security Agency/Central Security Service proposes to add a new system of records in its inventory of record systems subject to the Privacy Act of 1974 (5 U.S.C. 552a), as amended.

DATES: This proposed action will be effective on June 4, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill, National Security Agency/Central Security Service, Freedom of Information Act and Privacy Act Office, 9800 Savage Road, Suite 6248, Ft. George G. Meade, MD 20755-6248, or by phone at (301) 688-6527.

SUPPLEMENTARY INFORMATION: The National Security Agency/Central Security Service notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 16, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 18, 2012.
Patricia Toppings,
OSD Federal Register Liaison Officer, Department of Defense.

GNSA 29

System name:

NSA/CSS Office of Inspector General Investigations and Complaints.

System location:

National Security Agency/Central Security Service, 9800 Savage Road, Ft. George G. Meade, MD 20755-6000.

Categories of individuals covered by the system:

Persons who are interviewed by or provide information to the Office of the Inspector General; persons who are the subjects of Inspector General reviews, inquiries, or investigations; persons involved with matters under investigation by the Office of the Inspector General, and persons who have filed grievances with the Office of the Inspector General.

Categories of records in the system:

Individual's name, Social Security Number (SSN), employee identification number, date of birth, place of birth, and investigative case number. Investigative files, hotline complaints, inquiries, and/or investigative reports pertaining to complaints, allegations of fraud, waste, abuse, mismanagement, malfeasance, or reprisal as pertaining to NSA/CSS personnel, procedures, policies, or programs. Files may contain Reports of Investigation; testimony; rights waivers; letters; emails; memoranda; and working papers regarding, developed, or obtained as a result of investigation or complaint wherein someone has made allegations involving fraud, waste, abuse, mismanagement, employee misconduct, reprisal, or other matters involving alleged violations of law, rules or regulations pertaining to NSA/CSS personnel, programs, and/or procedures.

Letters/transcriptions of complaints, allegations and queries, letters of appointment, reports of reviews, inquiries and investigations with supporting attachments; exhibits and photographs, record of interviews, witness statements, agent notes, confidential source documents, subpoenas, reports of legal review of case files, congressional responses, memoranda, letters of rebuttal from subjects of investigations, financial documentation, personnel information, administrative information, adverse information, and technical reports.

Authority for maintenance of the system:

Public Law 95-452, The Inspector General Act of 1978, as amended; DoD Directive 5106.04, Combatant Command Inspectors General; NSA/CSS Office of the Inspector General (NSA/CSS Policy 1-60); Whistleblower Protection (NSA/CSS Policy 1-62); and E.O. 9397 (SSN), as amended.

Purpose(s):

Records are used to investigate allegations of misconduct or wrongdoing by NSA/CSS personnel related to violations of laws, rules, or regulations or pertaining to mismanagement, waste of funds, fraud or mismanagement on the part of persons assigned or detailed to NSA/CSS and to provide information to NSA/CSS management regarding personnel matters and for evaluating current and proposed programs, policies, and activities, assignments, and requests for awards or promotions.

Records are used to effect corrective personnel or other administrative action; to provide facts and evidence upon which to base prosecution; to provide information to other investigative elements of the Department of Defense, other Federal, State, or local agencies having jurisdiction over the substances of the allegations or a related investigative interest; to provide information upon which determinations may be made for individuals' suitability for various personnel actions including but not limited to retention, promotion, assignment, retirement, or selection for sensitive or critical positions in the Armed Forces or Federal service.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To appropriate officials within the Intelligence Community and other Federal departments, agencies, inspectors general, and elements thereof to the extent that the records concern NSA/CSS funds, personnel, property programs, operations, or contracts or when relevant to the official responsibilities of those organizations and entities, regarding personnel matters, and to evaluate current and proposed programs, policies and activities, selected assignments and requests for awards or promotions.

To Federal, state, local, foreign or international agencies, or to an individual or organization, when necessary to elicit information relevant to an NSA/CSS Inspector General investigation, inquiry, decision, or recommendation.

To the Department of Justice or any other agency responsible for representing NSA/CSS interests in connection with a judicial, administrative, or other proceeding.

To the Department of Justice or other Intelligence Community Inspector General or agency to the extent necessary to obtain information or advice on any matter relevant to an Office of the Inspector General investigation.

To the President's Foreign Intelligence Advisory Board and the Intelligence Oversight Board, and any successor organizations, when requested by those entities, or when the Inspector General determines that disclosure will assist in the performance of their oversight functions.

Records in the system may be disclosed to members of the President's Council on Integrity and Efficiency or the Executive Council on Integrity and Efficiency for peer review and the preparation of reports to the President and Congress on the activities of the Inspectors General.

The DoD `Blanket Routine Uses' published at the beginning of the NSA/CSS's compilation of systems of records also apply to this records system.

Policies and practices for storing, retrieving, accessing, retaining, and disposing of records in the system:

Storage:

Paper records and electronic storage media.

Retrievability:

By name, Social Security Number (SSN), employee identification number, or investigative case number. Information may be retrieved from this system of records by automated or hand searches based on existing indices, and by automated means utilized in the normal course of business.

Safeguards:

Buildings are secured by a series of guarded pedestrian gates and checkpoints. Access to facilities is limited to security-cleared personnel and escorted visitors only. Inside the offices housing Office of Inspector General records, paper/hard-copy records are stored in locked containers with limited access, and access to electronic records is limited and controlled by password.

Retention and disposal:

Formal investigations: Temporary, stored at NSA/CSS, and destroyed when 65 years old.

Complaints about an employee (not requiring a formal Agency investigation):

Temporary, maintained at NSA/CSS and destroyed two years after employee separates from NSA/CSS.

Records are destroyed by pulping, burning, shredding, or erasure or destruction of magnetic media.

System manager(s) and address:

Inspector General, National Security Agency/Central Security Service, 9800 Savage Road, Fort George G. Meade, Maryland 20755-6000.

Notification procedures:

Individuals seeking to determine whether information about themselves is contained in this system should address written inquiries to the National Security Agency/Central Security Service, Freedom of Information Act/Privacy Act Office, 9800 Savage Road, Suite 6248, Ft. George G. Meade, Maryland 20755-6248.

Written inquiries should contain the individual's full name, Social Security Number (SSN), mailing address, and signature.

Record Access procedures:

Individuals seeking access to information about themselves contained in this system should address written inquiries to the National Security Agency/Central Security Service, Freedom of Information Act/Privacy Act Office, 9800 Savage Road, Suite 6248, Ft. George G. Meade, Maryland 20755-6248.

Written inquiries should contain the individual's full name, Social Security Number (SSN), mailing address, and signature.

Contesting record procedures:

The NSA/CSS rules for contesting contents and appealing initial agency determinations are published at 32 CFR Part 322 or may be obtained from the system manager.

Record source categories:

Information is supplied by the individual making the complaint; personnel records and documentation; subjects and suspects of NSA/CSS investigations; and interviews of witnesses, victims, and confidential sources. Record sources also include all types of records and information maintained by all levels of government, private industry, and non-profit organizations reviewed during the course of the investigation or furnished the NSA/CSS; and any other type of record deemed necessary to complete the NSA/CSS investigation.

Exemptions claimed for the system:

Investigatory material compiled for law enforcement purposes, other than material within the scope of subsection 5 U.S.C. 552a(j)(2), may be exempt pursuant to 5 U.S.C. 552a(k)(2). However, if any individual is denied any right, privilege, or benefit for which he would otherwise be entitled by Federal law or for which he would otherwise be eligible, as a result of the maintenance of the information, the individual will be provided access to the information except to the extent that disclosure would reveal the identity of a confidential source. NOTE: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

An exemption rule for this records system has been promulgated according to the requirements of 5 U.S.C. 553(b)(1), (2), and (3), (c) and (e) and published in 32 CFR Part 322. For additional information, contact the system manager.

[FR Doc. 2012-10652 Filed 5-2-12; 8:45 am]

BILLING CODE 5001-06-P